DEPARTMENT OF THE INTERIOR

Bureau of Land Management

[LLNML00000 L12200000.DF0000 16XL1109AF]

Notice of Public Meeting, Las Cruces District Resource Advisory Council Meeting, New Mexico

AGENCY: Bureau of Land Management, Interior.

ACTION: Notice of public meeting.

SUMMARY: In accordance with the Federal Land Policy and Management Act and the Federal Advisory Committee Act, the Bureau of Land Management's (BLM), Las Cruces District Resource Advisory Council (RAC) will meet as indicated below.

DATES: The RAC will convene for a field trip on October 25 and a RAC meeting on October 26, at the BLM Las Cruces District Office, 1800 Marquess Street, Las Cruces, New Mexico. The field trip will introduce the RAC to the public land resources in the Potrillo Mountains. BLM and RAC members will depart for the field trip from the District Office at 8:00 a.m. and return by 5:00 p.m. The following day, the RAC will convene for a meeting at the District Office from 9:00 a.m. to 12:00 p.m. Both the field trip and meeting are open to the public. However, members of the public are required to provide their own transportation for the field trip. In addition, the public may send written comments to the RAC at the BLM Las Cruces District Office, 1800 Marquess Street, Las Cruces, NM 88001. Please RSVP for the field trip to Deborah Stevens.

FOR FURTHER INFORMATION CONTACT: Deborah Stevens, BLM Las Cruces District, 1800 Marquess Street, Las Cruces, NM 88001, 575-525-4421. Persons who use a telecommunications device for the deaf (TDD) may call the Federal Information Relay Service (FIRS) at 1-800-877-8229, to contact the above individual during normal business hours. The FIRS is available 24 hours a day, 7 days a week, to leave a message or question with the above individual. You will receive a reply during normal business hours.

SUPPLEMENTARY INFORMATION: The 10-member Las Cruces District RAC advises the Secretary of the Interior, through the BLM, on a variety of planning and management issues associated with public land management in New Mexico.

Planned agenda items include updates on current and proposed projects in the Las Cruces District, including lands/realty, planning, and energy projects.

A half-hour public comment period, during which the public may address the Council, will begin at 11:30 a.m. Depending on the number of individuals wishing to comment and time available, the time for individual oral comments may be limited.

Melanie Barnes,
Acting Deputy State Director, Lands and Resources.

[FR Doc. 2016-24092 Filed 10-4-16; 8:45 am]

BILLING CODE 4310-FB-P